DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Government Finance Forms.

Form Number(s): F-5, F-11, F-11(S), F-12, F-12(S), F-13, F-25, F-28, F-29, F-32, F-42.

OMB Control Number: 0607-0585.

Type of Request: Extension of a currently approved collection.

Burden Hours: 36,040.

Number of Respondents: 2,257.

Average Hours per Response: 3 hours.

Needs and Uses: This program is the only known comprehensive source of state and local government finance data collected on a nationwide scale using uniform definitions, concepts, and procedures.

The many different types and sizes of state and local governments require that the Census Bureau use a variety of questionnaires to collect government finance data. In both the Census and annual surveys, equivalent data are collected.

In 2007, the Census Bureau submitted a non-substantive change request to OMB seeking permission to add questions for the collection of defined contribution and post-employment health care plan data for state administered systems included in the 2007 Census of Publicly Administered Employee Retirement Systems. In addition, five questions related to the liabilities of these systems were added. The non-substantive change request was approved for the 2007 collection cycle only. The plan for 2008 and future data collections is to collect the defined contribution plan, post-employment health care plan, and the five liability questions, in addition to the defined benefit plan questions from all state administered retirement systems and the 12 locally administered systems whose total holdings and investments are five billion dollars or more. The universe of respondents receiving this questionnaire remains the same as in previous collection cycles.

The Census Bureau incorporates the data collected on these forms into its governmental finance program. This program has facilitated the dissemination of comprehensive and comparable governmental finance statistics on government revenue, expenditure, debt, and assets since 1902.

These statistics are widely used by Federal, state, and local legislators, policy makers, administrators, analysts, economists, and researchers to follow the changing characteristics of the government sector of the economy. Journalists, teachers, and students rely on these data as well.

The Census Bureau provides its governmental finance data annually to the Bureau of Economic Analysis (BEA) for use in measuring and developing estimates of the government sector of the economy in the National Income and Product Accounts. The Census Bureau also provides these data to the Federal Reserve Board for constructing the Flow of Funds Accounts.

If this information were not available, it would create a large gap in economic statistics for the government sector, making it impossible for the BEA to calculate the government sector of the National Income and Product Accounts. It would also eliminate a key source of data needed by the Federal Reserve Board.

Affected Public: State, local or tribal government.

Frequency: Annually.

Respondent's Obligation: Voluntary.

Legal Authority: Title 13, Sections 161 and 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: April 10, 2008.
Gwellnar Banks,
Management Analyst, Office of the Chief Information Officer.

[FR Doc. E8-8007 Filed 4-14-08; 8:45 am]

BILLING CODE 3510-07-P